FEDERAL COMMUNICATIONS COMMISSION

Notice of Public Information Collection(s) Being Submitted for Review to the Office of Management and Budget

September 18, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 24, 2008. If you anticipate that you will be submitting PRA comments, but find it difficult to do so within the period of time allowed by this notice, you should advise the FCC contact listed below as soon as possible.

ADDRESSES: Direct all PRA comments to Nicholas A. Fraser, Office of Management and Budget, 202-395-5887, or via fax at 202-395-5167 or via Internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-0816.

Title: Local Telephone Competition and Broadband Reporting.

Form No.: FCC Form 477.

Type of Review: Revision of a currently approved collection.

Respondents: Business or other for-profit; not-for-profit institutions, and state, local or tribal government.

Number of Respondents: 1,610 respondents; 3,220 responses.

Estimated Time per Response: 337 hours average burden.

Frequency of Response: Semi-annual reporting requirement.

Obligation to Respond: Mandatory, as required by the Commission's rules implementing section 706 of the Telecommunications Act of 1996, 47 U.S.C. 157 and the Communications Act of 1934, as amended; 47 U.S.C. 151-155, 160, 161, 201-205, 215, 218-220, 251-271, 303(r), 332, 403, 502 and 503.

Total Annual Burden: 1,085,140 hours.

Total Annual Cost: N/A.

Privacy Act Impact Assessment: N/A.

Nature and Extent of Confidentiality: Respondents may request confidential treatment for competitively sensitive information by checking a box located on the first page of FCC Form 477. If the Commission receives a request for release pursuant to the Freedom of Information Act (FOIA), the respondent is notified and afforded an opportunity to show why the data should not be released under 47 CFR 0.459(b) of the Commission's rules. Additionally, the Commission only releases aggregated (non-company specific) information in its published reports.

Needs and Uses: The Commission will submit this information collection (IC) to the OMB as a revision during this comment period to obtain the full three-year clearance from them.

On June 12, 2008, the Commission released two Orders in WC Docket No. 07-38. They are a Report and Order and Further Notice of Proposed Rulemaking, FCC 08-89 and an Order on Reconsideration, FCC 08-148. With these two Orders, the Commission revises the FCC Form 477 data collection to improve the Commission's understanding of the extent of broadband deployment, facilitating the development of appropriate broadband policies.

The Report and Order revises FCC Form 477 to require all broadband providers to report the number of broadband connections in service in individual Census Tracts. The Report and Order provides for additional methods to add to the data reported by FCC Form 477 filers, including a voluntary household self-reporting system, and a recommendation to the Census Bureau that the American Community Survey questionnaire be modified to gather information about broadband availability and subscription in households. The Report and Order adopts three additional changes to the FCC Form 477. First, it requires providers to report broadband service speed data in conjunction with subscriber counts according to new categories for download and upload speeds. These new speed tiers will better identify services that support advanced applications. Second, it amends reporting requirements for mobile wireless broadband providers to require them to report the number of subscribers whose data plans allow them to browse the Internet and access the lawful Internet content of their choice. Third, it requires providers of interconnected Voice over Internet Protocol (interconnected VoIP) service to report subscribership information on FCC Form 477. The Order on Reconsideration amends FCC Form 477 to require filers to report the percentage of broadband connections that are residential at the Census Tract level.

The information is necessary to evaluate the status of local telephone competition and the status of broadband services deployment. The information assists the Commission in preparing the report mandated by section 706 of the Telecommunications Act of 1996, and it is used by the Commission to evaluate the efficacy of Commission rules and policies adopted to implement the Telecommunications Act of 1996.

Federal Communications Commission.
Marlene H. Dortch,
Secretary.

[FR Doc. E8-22447 Filed 9-23-08; 8:45 am]

BILLING CODE 6712-01-P